DEPARTMENT OF DEFENSE

Department of the Army

[Docket ID USA-2010-0031]

Privacy Act of 1974; System of Records

AGENCY: Department of the Army, DoD.

ACTION: Notice to alter a system of records.

SUMMARY: Department of the Army proposes to alter a system of records notices in its existing inventory of record systems subject to the Privacy Act of 1974 (5 U.S.C. 552a), as amended.

DATES: This proposed action will be effective without further notice on January 18, 2011 unless comments are received which result in a contrary determination.

ADDRESSES: You may submit comments, identified by docket number and/Regulatory Information Number (RIN) and title, by any of the following methods:

*Federal Rulemaking Portal: http://www.regulations.gov. Follow the instructions for submitting comments.

*Mail: Federal Docket Management System Office, Room 3C843, 1160 Defense Pentagon, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Department of the Army, Privacy Office, U.S. Army Records Management and Declassification Agency, 7701 Telegraph Road, Casey Building, Suite 144, Alexandria, VA 22325-3905, or Mr. Leroy Jones at (703) 428-6185.

SUPPLEMENTARY INFORMATION: Department of the Army notices for systems of records subject to the Privacy Act of 1974 (5 U.S.C. 552a), as amended, have been published in the Federal Register and are available from the FOR FURTHER INFORMATION CONTACT address above.

The proposed system report, as required by 5 U.S.C. 552a(r) of the Privacy Act of 1974, as amended, was submitted on December 8, 2010, to the House Committee on Government Reform, the Senate Committee on Homeland Security and Governmental Affairs, and the Office of Management and Budget (OMB) pursuant to paragraph 4c of Appendix I to OMB Circular No. A-130, “Federal Agency Responsibilities for Maintaining Records About Individuals,” February 20, 1996, 61 FR 6427.

Dated: December 9, 2010.
Morgan F. Park,
Alternate OSD Federal Register Liaison Officer, Department of Defense.

A0680-31 DSC G-1

System name:

Economic and Manpower Analysis (OEMA) Database (October 1, 2008, 73 FR 57082).

* * * * *

Changes:

Categories of records in the system:

Delete entry and replace with “Name, service number, selective service number, Social Security Number (SSN), citizenship data, compensation data, demographic information such as home of record, age, sex, race, date of birth, number of family members of sponsor, and educational level; reasons given for leaving military service; training and job specialty information, work schedule (full time, part time, intermittent), annual salary rate, occupational series, position occupied, agency identifier, geographic location of duty station, metropolitan statistical area, and personnel office identifier; military personnel information such as rank, assignment/deployment, length of service, military occupation, aptitude and performance scores, and training; participation in various in-service education and training programs; performance evaluations; transition assistance; home and work addresses; casualty incident information such as location of incident, date of incident, type of incident, circumstances surrounding incident, and outcome; Medicare eligibility and enrollment data, dental care eligibility codes, disability payment records, education benefit records; and Common Access Card (CAC) Photos for identification.”

* * * * *

Retrievability:

Delete entry and replace with “Name, Social Security Number (SSN), and other Personally Identifiable Information (PII) maintained in the system specific to an individual.”

* * * * *

System manager(s) and address:

Delete entry and replace with “Director, Office of Economic and Manpower Analysis (OEMA), 607 Cullum Road, United States Military Academy, West Point, NY 10996-1798.”

Notification procedure:

Delete entry and replace with “Individuals seeking to determine whether information about themselves is contained in this system should address written inquiries to the Director, Office of Economic and Manpower Analysis (OEMA), 607 Cullum Road, United States Military Academy, West Point, NY 10996-1798.

Requests should contain individual's full name, Social Security Number (SSN), current address and telephone number, and other personal identifying data that would assist in locating the records. The request must be signed.

In addition, the requester must provide a notarized statement or an unsworn declaration made in accordance with 28 U.S.C. 1746, in the following format:

If executed outside the United States: `I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.”

Records Access Procedure:

Delete entry and replace with “Individuals seeking access to information about themselves contained in this system should address written inquiries to the Director, Office of Economic and Manpower Analysis (OEMA), 607 Cullum Road, United States Military Academy, West Point, NY 10996-1798.

Requests should contain the individual's full name, Social Security Number (SSN), current address, and telephone number, when and where they were assigned during the contingency and notarized verifying signature.

In addition, the requester must provide a notarized statement or an unsworn declaration made in accordance with 28 U.S.C. 1746, in the following format:

If executed outside the United States: `I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.”

A0680-31 DSC G-1

System name:

Economic and Manpower Analysis (OEMA) Database.

System location:

United States Military Academy, Office of Economic and Manpower Analysis (OEMA), Washington Hall (Bldg 745), West Point, NY 10996-1798.

Categories of individuals covered by the system:

Individuals seeking information about the Army through advertising or marketing campaigns that may include the internet, direct mail, and marketing events from fiscal year 1990 and after;

Individuals entering into enlistment contracts with the Army (Active Component, Reserve Component, and National Guard) from fiscal year 1990 and after;

Individuals applying to, enrolled in, and commissioned from the United States Military Academy (USMA) and the Reserve Officer Training Corps (ROTC) from fiscal years 1980 and after;

Individuals serving in the Army Active Component as a commissioned officer, warrant officer, or enlisted soldier from fiscal year 1970 and after;

Individuals serving in the Army Reserve Component as a commissioned officer, warrant officer, or enlisted soldier from fiscal year 1990 and after;

Individuals serving in the Army National Guard as a commissioned officer, warrant officer, or enlisted soldier from fiscal year 1990 and after;

Individuals employed by the Department of the Army as DA Civilian Employees, Non-Appropriated Funds Employees, or Foreign National Employees from fiscal year 1991 and after;

Individuals retired from the Army Active Component, Reserve Component, or National Guard from fiscal year 1990 and after; Individuals separated from the Active Component from fiscal year 1968 and after;

Individuals retired from service as a DA Civilian from fiscal year 1997 and after; Dependents of member of Active Component, Reserve Component, or National Guard from fiscal year 1988 and after.

Categories of records in the system:

Name, service number, selective service number, Social Security Number (SSN), citizenship data, compensation data, demographic information such as home of record, age, sex, race, date of birth, number of family members of sponsor, and educational level; reasons given for leaving military service; training and job specialty information, work schedule (full time, part time, intermittent), annual salary rate, occupational series, position occupied, agency identifier, geographic location of duty station, metropolitan statistical area, and personnel office identifier; military personnel information such as rank, assignment/deployment, length of service, military occupation, aptitude and performance scores, and training; participation in various in-service education and training programs; performance evaluations; transition assistance; home and work addresses; casualty incident information such as location of incident, date of incident, type of incident, circumstances surrounding incident, and outcome; Medicare eligibility and enrollment data, dental care eligibility codes, disability payment records, education benefit records; and Common Access Card (CAC) Photos for identification.

Authority for maintenance of the system:

5 U.S.C. 301, Departmental Regulations; 10 U.S.C. 3013, Secretary of the Army; 10 U.S.C. 2358, Research and Development Projects; and E.O. 9397 (SSN), as amended.

Purpose(s):

To facilitate manpower and personnel studies for the DoD and DA senior leadership.

Routine uses of records maintained in the system, including categories of users and the purposes of such uses:

In addition to those disclosures generally permitted under 5 U.S.C. 552a (b) of the Privacy Act of 1974, these records or information contained therein may specifically be disclosed outside the DoD as a routine use pursuant to 5 U.S.C. 552a(b)(3) as follows:

The DoD `Blanket Routine Uses' set forth at the beginning of the Army's compilation of systems of records notices also apply to this system.

Policies and practices for storing, retrieving, accessing, retaining, and disposing of records in the system:

Storage:

Electronic storage media.

Retrievability:

Name, Social Security Number (SSN), and any other Personally Identifiable Information (PII) maintained in the system specific to an individual.

Safeguards:

All records are maintained in a controlled area accessible only to authorized personnel. Entry to these areas is restricted to those personnel with a valid requirement and authorization to enter. Physical entry is restricted by the use of locks, guards, and administrative procedures. Access to personal information is restricted to those who require the records in the performance of their official duties. Access to personal information is further restricted by the use of user identification codes and passwords, which are changed periodically.

Retention and disposal:

Disposition pending (until the National Archives and Records Administration has approved retention and disposition of these records, treat as permanent).

System manager(s) and address:

Director, Office of Economic and Manpower Analysis (OEMA), 607 Cullum Road, United States Military Academy, West Point, NY, 10996-1798.

Notification procedure:

Individuals seeking to determine whether information about themselves is contained in this system should address written inquiries to the Director, Office of Economic and Manpower Analysis (OEMA), 607 Cullum Road, United States Military Academy, West Point, NY, 10996-1798.

Requests should contain individual's full name, Social Security Number (SSN), current address and telephone number, and other personal identifying data that would assist in locating the records. The request must be signed.

In addition, the requester must provide a notarized statement or an unsworn declaration made in accordance with 28 U.S.C. 1746, in the following format:

If executed outside the United States: “I declare (or certify, verify, or state) under penalty of perjury under the laws of the United States of America that the foregoing is true and correct. Executed on (date). (Signature)”.

If executed within the United States, its territories, possessions, or commonwealths: “I declare (or certify, verify, or state) under penalty of perjury that the foregoing is true and correct. Executed on (date). (Signature)”.

Records Access Procedure:

Individuals seeking access to information about themselves contained in this system should address written inquiries to the Director, Office of Economic and Manpower Analysis (OEMA), 607 Cullum Road, United States Military Academy, West Point, NY, 10996-1798.

Requests should contain the individual's full name, Social Security Number (SSN), current address, and telephone number, when and where they were assigned during the contingency and notarized verifying signature.

In addition, the requester must provide a notarized statement or an unsworn declaration made in accordance with 28 U.S.C. 1746, in the following format:

If executed outside the United States: “I declare (or certify, verify, or state) under penalty of perjury under the laws of the United States of America that the foregoing is true and correct. Executed on (date). (Signature)”.

If executed within the United States, its territories, possessions, or commonwealths: `I declare (or certify, verify, or state) under penalty of perjury that the foregoing is true and correct. Executed on (date). (Signature)'.

Contesting Records Procedures:

The Army's rules for accessing records, and for contesting contents and appealing initial agency determinations are contained in Army Regulation 340-21; 32 CFR part 505; or may be obtained from the system manager.

Record Source Categories:

From official DoD systems such as: Total Army Personnel Database, Active Officers (TAPDB-AO); Total Army Personnel Database, Active Enlisted (TAPDB-AE); Total Army Personnel Database, Reserve (TAPDB-R); Total Army Personnel Database; National Guard (TAPDB-G); and Defense Manpower Data Center (DMDC).

Exemptions claimed for the system:

None.

[FR Doc. 2010-31568 Filed 12-15-10; 8:45 am]

BILLING CODE 5001-06-P